DEPARTMENT OF HOMELAND SECURITY

Federal Emergency Management Agency

44 CFR Part 64

[Docket ID FEMA-2011-0002; Internal Agency Docket No. FEMA-8175]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
New Hampshire:
Hudson, Town of, Hillsborough County | 330092 | November 17, 1977, Emerg; January 3, 1979, Reg; April 18, 2011, Susp. | April 18, 2011 | April 18, 2011.
Nashua, City of, Hillsborough County | 330097 | February 6, 1975, Emerg; June 15, 1979, Reg; April 18, 2011, Susp. | ......do | Do.
Rhode Island:
Cranston, City of, Providence County | 445396 | September 11, 1970, Emerg; August 27, 1971, Reg; April 18, 2011, Susp. | ......do | Do.
East Providence, City of, Providence County | 445398 | June 5, 1970, Emerg; May 18, 1973, Reg; April 18, 2011, Susp. | ......do | Do.
Johnston, Town of, Providence County | 440018 | August 1, 1975, Emerg; September 1, 1978, Reg; April 18, 2011, Susp. | ......do | Do.
North Providence, Town of, Providence County | 440020 | October 6, 1972, Emerg; December 15, 1977, Reg; April 18, 2011, Susp. | ......do | Do.
Providence, City of, Providence County | 445406 | September 11, 1970, Emerg; December 11, 1970, Reg; April 18, 2011, Susp. | ......do | Do.
Region IV
Alabama:
Randolph County, Unincorporated Areas | 010182 | N/A, Emerg; November 5, 2003, Reg; April 18, 2011, Susp. | ......do | Do.
Roanoke, City of, Randolph County | 010348 | N/A, Emerg; May 3, 1995, Reg; April 18, 2011, Susp. | ......do | Do.
Wadley, Town of, Randolph County | 010183 | July 15, 1975, Emerg; August 19, 1985, Reg; April 18, 2011, Susp. | ......do | Do.
Wedowee, Town of, Randolph County | 010401 | N/A, Emerg; October 29, 1998, Reg; April 18, 2011, Susp. | ......do | Do.
Kentucky:
McLean County, Unincorporated Areas | 210153 | February 6, 1979, Emerg; February 15, 1991, Reg; April 18, 2011, Susp. | ......do | Do.
Morehead, City of, Rowan County | 210204 | June 4, 1975, Emerg; July 5, 1982, Reg; April 18, 2011, Susp. | ......do | Do.
Rowan County, Unincorporated Areas | 210203 | May 19, 1975, Emerg; January 19, 1983, Reg; April 18, 2011, Susp. | ......do | Do.
Region V
Ohio:
Clyde, City of, Sandusky County | 390489 | August 14, 1974, Emerg; April 2, 1979, Reg; April 18, 2011, Susp. | ......do | Do.
Corning, Village of, Perry County | 390440 | July 18, 1975, Emerg; September 1, 1987, Reg; April 18, 2011, Susp. | ......do | Do.
Crooksville, Village of, Perry County | 390441 | April 16, 1976, Emerg; March 4, 1988, Reg; April 18, 2011, Susp. | ......do | Do.
Fremont, City of, Sandusky County | 390490 | June 9, 1975, Emerg; April 18, 2011, Reg; April 18, 2011, Susp. | ......do | Do.
Glenford, Village of, Perry County | 390442 | August 11, 1978, Emerg; August 2, 1995, Reg; April 18, 2011, Susp. | ......do | Do.
Green Springs, Village of, Sandusky and Seneca Counties | 390492 | April 2, 1976, Emerg; August 15, 1980, Reg; April 18, 2011, Susp. | ......do | Do.
Hemlock, Village of, Perry County | 390708 | February 27, 1976, Emerg; August 19, 1987, Reg; April 18, 2011, Susp. | ......do | Do.
Lindsey, Village of, Sandusky County | 390494 | June 20, 1975, Emerg; September 1, 1978, Reg; April 18, 2011, Susp. | ......do | Do.
New Boston, Village of, Scioto County | 390497 | April 17, 1975, Emerg; January 26, 1983, Reg; April 18, 2011, Susp. | ......do | Do.
New Lexington, Village of, Perry County | 390443 | September 15, 1975, Emerg; September 2, 1982, Reg; April 18, 2011, Susp. | ......do | Do.
New Straitsville, Village of, Perry County | 390709 | August 27, 1976, Emerg; April 17, 1987, Reg; April 18, 2011, Susp. | ......do | Do.
Perry County, Unincorporated Areas | 390778 | May 19, 1977, Emerg; September 27, 1991, Reg; April 18, 2011, Susp. | ......do | Do.
Rarden, Village of, Scioto County | 390499 | February 14, 1977, Emerg; April 17, 1989, Reg; April 18, 2011, Susp. | ......do | Do.
Sandusky County, Unincorporated Areas | 390486 | November 13, 1974, Emerg; January 17, 1979, Reg; April 18, 2011, Susp. | ......do | Do.
Scioto County, Unincorporated Areas | 390496 | November 20, 1975, Emerg; June 19, 1989, Reg; April 18, 2011, Susp. | ......do | Do.
Woodville, Village of, Sandusky County | 390495 | November 21, 1975, Emerg; June 18, 1980, Reg; April 18, 2011, Susp. | ......do | Do.
Region VI
Arkansas:
Crossett, City of, Ashley County | 050471 | May 29, 1975, Emerg; June 11, 1976, Reg; April 18, 2011, Susp. | ......do | Do.
Hamburg, City of, Ashley County | 050005 | October 18, 1974, Emerg; April 1, 1982, Reg; April 18, 2011, Susp. | ......do | Do.
Montrose, Town of, Ashley County | 050006 | October 10, 1974, Emerg; March 15, 1982, Reg; April 18, 2011, Susp. | ......do | Do.
Portland, City of, Ashley County | 050008 | August 12, 1974, Emerg; March 1, 1988, Reg; April 18, 2011, Susp. | ......do | Do.
Wilmot, City of, Ashley County | 050009 | January 14, 1975, Emerg; March 15, 1982, Reg; April 18, 2011, Susp. | ......do | Do.
Oklahoma:
Anadarko, City of, Caddo County | 400018 | July 3, 1975, Emerg; September 17, 1980, Reg; April 18, 2011, Susp. | ......do | Do.
Apache, City of, Caddo County | 400019 | August 6, 1975, Emerg; May 15, 1985, Reg; April 18, 2011, Susp. | ......do | Do.
Caddo County, Unincorporated Areas | 400479 | N/A, Emerg; June 12, 1995, Reg; April 18, 2011, Susp. | ......do | Do.
Carnegie, Town of, Caddo County | 400021 | September 3, 1975, Emerg; July 20, 1982, Reg; April 18, 2011, Susp. | ......do | Do.
Hydro, Town of, Caddo County | 400024 | January 9, 1987, Emerg; November 1, 1989, Reg; April 18, 2011, Susp. | ......do | Do.
Texas:
Argyle, Town of, Denton County | 480775 | November 13, 1980, Emerg; April 16, 1990, Reg; April 18, 2011, Susp. | ......do | Do.
Carrollton, City of, Collin, Dallas, and Denton Counties | 480167 | May 27, 1975, Emerg; July 16, 1980, Reg; April 18, 2011, Susp. | ......do | Do.
Celina, City of, Collin and Denton Counties | 480133 | May 27, 1975, Emerg; November 1, 1979, Reg; April 18, 2011, Susp. | ......do | Do.
Coppell, City of, Dallas and Denton Counties | 480170 | June 11, 1975, Emerg; August 1, 1980, Reg; April 18, 2011, Susp. | ......do | Do.
Copper Canyon, Town of, Denton County | 481508 | July 8, 1985, Emerg; September 18, 1987, Reg; April 18, 2011, Susp. | ......do | Do.
Corinth, City of, Denton County | 481143 | March 5, 1975, Emerg; May 15, 1979, Reg; April 18, 2011, Susp. | ......do | Do.
Dallas, City of, Collin, Dallas, Denton, Kaufman, and Rockwell Counties | 480171 | June 30, 1970, Emerg; March 16, 1983, Reg; April 18, 2011, Susp. | ......do | Do.
Denton County, Unincorporated Areas | 480774 | July 22, 1975, Emerg; May 4, 1987, Reg; April 18, 2011, Susp. | ......do | Do.
Denton, City of, Denton County | 480194 | February 18, 1972, Emerg; August 1, 1979, Reg; April 18, 2011, Susp. | ......do | Do.
Double Oak, Town of, Denton County | 481516 | May 28, 1982, Emerg; March 4, 1987, Reg; April 18, 2011, Susp. | ......do | Do.
Flower Mound, Town of, Denton and Tarrant Counties | 480777 | July 31, 1975, Emerg; September 18, 1986, Reg; April 18, 2011, Susp. | ......do | Do.
Fort Worth, City of, Denton and Tarrant Counties | 480596 | September 17, 1971, Emerg; June 4, 1980, Reg; April 18, 2011, Susp. | ......do | Do.
Frisco, City of, Collin and Denton Counties | 480134 | October 7, 1975, Emerg; June 18, 1980, Reg; April 18, 2011, Susp. | ......do | Do.
Grapevine, City of, Dallas, Denton, and Tarrant Counties | 480598 | October 3, 1974, Emerg; November 17, 1982, Reg; April 18, 2011, Susp. | ......do | Do.
Hackberry, City of, Denton County | 481607 | December 17, 1987, Emerg; April 2, 1997, Reg; April 18, 2011, Susp. | ......do | Do.
Highland Village, City of, Denton County | 481105 | June 16, 1978, Emerg; July 16, 1987, Reg; April 18, 2011, Susp. | ......do | Do.
Krum, City of, Denton County | 480779 | N/A, Emerg; September 23, 1996, Reg; April 18, 2011, Susp. | ......do | Do.
Lakewood Village, Town of, Denton County | 481663 | N/A, Emerg; June 11, 2009, Reg; April 18, 2011, Susp. | ......do | Do.
Lewisville, City of, Denton County | 480195 | January 20, 1975, Emerg; October 18, 1988, Reg; April 18, 2011, Susp. | ......do | Do.
Northlake, Town of, Denton County | 480782 | April 16, 1990, Emerg; September 30, 1994, Reg; April 18, 2011, Susp. | ......do | Do.
Plano, City of, Collin and Denton Counties | 480140 | July 19, 1974, Emerg; January 2, 1980, Reg; April 18, 2011, Susp. | ......do | Do.
Ponder, Town of, Denton County | 480784 | N/A, Emerg; July 17, 2002, Reg; April 18, 2011, Susp. | ......do | Do.
Sanger, City of, Denton Counties | 480786 | December 19, 1977, Emerg; April 24, 1979, Reg; April 18, 2011, Susp. | ......do | Do.
Trophy Club, Town of, Denton and Tarrant Counties | 481606 | June 12, 1987, Emerg; June 12, 1987, Reg; April 18, 2011, Susp. | ......do | Do.
Westlake, Town of, Denton and Tarrant Counties | 480614 | May 24, 1993, Emerg; June 2, 1993, Reg; April 18, 2011, Susp. | ......do | Do.
Region VII
Missouri:
Amazonia, City of, Andrew County | 290005 | July 30, 1999, Emerg; May 1, 2005, Reg; April 18, 2011, Susp. | ......do | Do.
Bolckow, City of, Andrew County | 290006 | May 17, 1988, Emerg; May 17, 1989, Reg; April 18, 2011, Susp. | ......do | Do.
Country Club, Village of, Andrew County | 290604 | September 13, 1976, Emerg; August 24, 1984, Reg; April 18, 2011, Susp. | ......do | Do.
Savannah, City of, Andrew County | 290664 | December 21, 1978, Emerg; December 21, 1978, Reg; April 18, 2011, Susp. | ......do | Do.
*-do- = Ditto.
Code for reading third column: Emerg.—Emergency; Reg.—Regular; Susp.—Suspension.

Dated: March 21, 2011.
Sandra K. Knight,
Deputy Federal Insurance and Mitigation Administrator, Mitigation.

[FR Doc. 2011-8112 Filed 4-5-11; 8:45 am]

BILLING CODE 9110-12-P